DEPARTMENT OF THE TREASURY

Senior Executive Service; Legal Division Performance Review Board

AGENCY: Treasury Department.

ACTION: Notice of members of the Legal Division Performance Review Board (PRB).

SUMMARY: Pursuant to 5 U.S.C. 4314(c)(4), this notice announces the appointment of members of the Legal Division PRB. The purpose of this Board is to review and make recommendations concerning proposed performance appraisals, ratings, bonuses and other appropriate personnel actions for incumbents of SES positions in the Legal Division.

Composition of Legal Division PRB: The Board shall consist of at least three members. In the case of an appraisal of a career appointee, more than half the members shall consist of career appointees. The names and titles of the PRB members are as follows:

Lily Fu, Deputy General Counsel, who shall serve as Chairperson;

Peter A. Bieger, Deputy Assistant General Counsel (Banking and Finance);

Michael J. Davidson, Chief Counsel, Bureau of Engraving and Printing;

Michael Desmond, Tax Legislative Counsel;

John Harrington, International Tax Counsel;

H. Stephen Kesselman, Acting Deputy Chief Counsel (Operations), Internal Revenue Service;

Bernard J. Knight, Assistant General Counsel (General Law and Ethics);

Donald L. Korb, Chief Counsel, Internal Revenue Service;

M.J.K. Maher, Jr., Deputy Assistant General Counsel (Enforcement & Intelligence);

Margaret V. Marquette, Chief Counsel, Financial Management Service;

Thomas M. McGivern, Assistant to the General Counsel (Legislation & Litigation);

Mark Monborne, Assistant General Counsel (Enforcement & Intelligence);

Marilyn L. Muench, Deputy Assistant General Counsel (International Affairs);

Russell L. Munk, Assistant General Counsel (International Affairs);

Clarissa C. Potter, Deputy Chief Counsel (Technical), Internal Revenue Service;

Daniel P. Shaver, Chief Counsel, United States Mint;

Sean M. Thornton, Chief Counsel, Office of Foreign Assets Control;

Robert M. Tobiassen, Chief Counsel, Alcohol and Tobacco Tax and Trade Bureau, and Paul Wolfteich, Chief Counsel, Bureau of Public Debt.

DATES: Effective Date: Membership is effective on the date of this notice.

FOR FURTHER INFORMATION CONTACT: Kitty Russell, Administrative Management Coordinator, 1500 Pennsylvania Avenue, NW., Room 3000, Washington, DC 20220, Telephone: (202) 622-0264.

This notice does not meet the Department's criteria for significant regulations.

Kitty Russell,
Administrative Management Coordinator.

[FR Doc. E7-19383 Filed 10-1-07; 8:45 am]

BILLING CODE 4811-42-P